INTERNATIONAL TRADE COMMISSION

[Investigation No. 731-TA-1383 (Final)]

Stainless Steel Flanges From China; Supplemental Schedule for the Subject Investigation

AGENCY: United States International Trade Commission.

ACTION: Notice.

FOR FURTHER INFORMATION CONTACT: Celia Feldpausch (202-205-2387), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective January 23, 2018, the Commission established a general schedule for the conduct of the final phase of its investigations on stainless steel flanges from China and India,¹ following a preliminary determination by the U.S. Department of Commerce (“Commerce”) that imports of the subject stainless steel flanges were subsidized by the government of China. Notice of the scheduling of the final phase of the Commission's investigations and of a public hearing to be held in connection therewith was given by posting copies of the notice in the Office of the Secretary, U.S. International Trade Commission, Washington, DC, and by publishing the notice in the Federal Register of February 7, 2018 (83 FR 5459). The hearing was held in Washington, DC, on April 10, 2018, and all persons who requested the opportunity were permitted to appear in person or by counsel. To date, Commerce has issued final affirmative determinations with respect to the subject stainless steel flanges from China.2 3 The Commission subsequently issued its final affirmative determination regarding subsidized imports from China on May 29, 2018 (83 FR 25714, June 4, 2018). The Commission currently is issuing a supplemental schedule for its antidumping duty investigation on imports of stainless steel flanges from China.

¹ Stainless Steel Flanges from China and India: Scheduling of the Final Phase of Countervailing Duty and Antidumping Duty Investigations, 83 FR 5459, February 7, 2018.

² Countervailing Duty Investigation of Stainless Steel Flanges From the People's Republic of China: Final Affirmative Determination, 83 FR 15790, April 12, 2018.

³ Stainless Steel Flanges From the People's Republic of China: Final Affirmative Determination of Sales at Less than Fair Value, 83 FR 26959, June 11, 2018.

This supplemental schedule is as follows: The deadline for filing supplemental party comments on Commerce's final antidumping duty determination regarding China is June 25, 2018. Supplemental party comments may address only Commerce's final antidumping duty determination regarding imports of certain stainless steel flanges from China. These supplemental final comments may not contain new factual information and may not exceed five (5) pages in length. The supplemental staff report in this antidumping duty investigation will be placed in the nonpublic record and a public version will be issued thereafter.

For further information concerning these investigations, see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: June 20, 2018.
Lisa Barton,
Secretary to the Commission.

[FR Doc. 2018-13557 Filed 6-22-18; 8:45 am]

BILLING CODE 7020-02-P